DEPARTMENT OF ENERGY

Federal Energy Regulatory Commission

Combined Notice of Filings

Take notice that the Commission has received the following Natural Gas Pipeline Rate and Refund Report filings:

Docket Numbers: RP11-1820-000.

Applicants: Columbia Gulf Transmission Company.

Description: Columbia Gulf Transmission Company submits tariff filing per: TRA 2011 Supplemental Filing to be effective N/A.

Description: 04/18/2011.

Accession Number: 20110418-5195.

Comment Date: 5 p.m. Eastern Time on Tuesday, May 31, 2011.

Docket Numbers: RP11-2099-000.

Applicants: Freebird Gas Storage, L.L.C.

Description: Freebird Gas Storage, L.L.C. submits tariff filing per 154.205(a): Freebird Gas Storage Withdrawal of Correction Filing to be effective N/A.

Description: 05/24/2011.

Accession Number: 20110524-5078.

Comment Date: 5 p.m. Eastern Time on Monday, June 06, 2011.

Docket Numbers: RP10-1410-002.

Applicants: Kern River Gas Transmission Company.

Description: Kern River Gas Transmission Company submits tariff filing per 154.203: Rev 2011 Reservation Charge Credits Compliance Filing 05_19_11 (RP10-1410) to be effective 12/1/2010.

Description: 05/19/2011.

Accession Number: 20110519-5083.

Comment Date: 5 p.m. Eastern Time on Tuesday, May 31, 2011.

Docket Numbers: RP11-60-003.

Applicants: Southern Natural Gas Company.

Description: Southern Natural Gas Company submits tariff filing per 154.203: Miscellaneous Compliance Filing 2 (Reservation Charge Credits) to be effective 7/1/2011.

Description: 05/23/2011.

Accession Number: 20110523-5128.

Comment Date: 5 p.m. Eastern Time on Monday, June 06, 2011.

Docket Numbers: RP11-2021-001.

Applicants: Florida Gas Transmission Company, LLC.

Description: Florida Gas Transmission Company, LLC submits tariff filing per 154.203: Housekeeping Compliance to be effective 5/20/2011.

Description: 05/25/2011.

Accession Number: 20110525-5026.

Comment Date: 5 p.m. Eastern Time on Monday, June 06, 2011.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Dated: May 25, 2011.
Nathaniel J. Davis, Sr.,
Deputy Secretary.

[FR Doc. 2011-13772 Filed 6-2-11; 8:45 am]

BILLING CODE 6717-01-P